FEDERAL COMMUNICATIONS COMMISSION

[DA 11-2022]

Notice of Debarment

AGENCY: Federal Communications Commission.

ACTION: Notice.

SUMMARY: The Enforcement Bureau (the “Bureau”) debars Mr. Tyrone D. Pipkin from the schools and libraries universal service support mechanism (or “E-Rate Program”) for a period of three years. The Bureau takes this action to protect the E-Rate Program from waste, fraud and abuse.

DATES: Debarment commences on the date Mr. Tyrone D. Pipkin receives the debarment letter or February 10, 2012, whichever date comes first, for a period of three years.

FOR FURTHER INFORMATION CONTACT: Joy M. Ragsdale, Federal Communications Commission, Enforcement Bureau, Investigations and Hearings Division, Room 4-A236, 445 12th Street SW., Washington, DC 20554. Joy Ragsdale may be contacted by phone at (202) 418-1697 or by email at Joy.Ragsdale@fcc.gov. If Ms. Ragsdale is unavailable, you may contact Ms. Terry Cavanaugh, Acting Chief, Investigations and Hearings Division, by telephone at (202) 418-1420 and by email at Theresa.Cavanaugh@fcc.gov.

SUPPLEMENTARY INFORMATION: The Bureau debarred Mr. Tyrone D. Pipkin from the schools and libraries universal service support mechanism for a period of three years pursuant to 47 CFR 54.8. Attached is the debarment letter, DA 11-2022, which was mailed to Mr. Tyrone D. Pipkin and released on December 15, 2011. The complete text of the notice of debarment is available for public inspection and copying during regular business hours at the FCC Reference Information Center, Portal II, 445 12th Street SW., Room CY-A257, Washington, DC 20554. In addition, the complete text is available on the FCC's Web site at http://www.fcc.gov. The text may also be purchased from the Commission's duplicating inspection and copying during regular business hours at the contractor, Best Copy and Printing, Inc., Portal II, 445 12th Street SW., Room CY-B420, Washington, DC 20554, telephone (202) 488-5300 or (800) 378-3160, facsimile (202) 488-5563, or via email http://www.bcpiweb.com.

Federal Communications Commission.
Theresa Z. Cavanaugh,
Acting Chief, Investigations and Hearings Division, Enforcement Bureau.

The debarment letter follows:

December 15, 2011

DA 11-2022

VIA CERTIFIED MAIL RETURN RECEIPT REQUESTED AND E-MAIL

Mr. Tyrone D. Pipkin

c/o Mr. Walter Francis Becker, Jr.

Chaffe McCall LLP

Energy Centre

1100 Poydras St., Suite 2300

New Orleans, LA 70163-2300

Re: Notice of Debarment

File No. EB-11-IH-1071

Dear Mr. Pipkin:

The Federal Communications Commission (Commission) hereby notifies you that, pursuant to Section 54.8 of its rules, you are prohibited from participating in the schools and libraries universal service support mechanism (E-Rate program) for three years from either the date of your receipt of this Notice of Debarment, or of its publication in the Federal Register, whichever is earlier in time (Debarment Date).¹

¹ 47 CFR 54.8(g) (2010). See also 47 CFR 0.111 (delegating authority to the Enforcement Bureau to resolve universal service suspension and debarment proceedings).

On August 17, 2011, the Commission's Enforcement Bureau (Bureau) sent you a Notice of Suspension and Initiation of Debarment Proceeding (Notice of Suspension) ² that was published in the Federal Register on September 2, 2011.³ The Notice of Suspension suspended you from participating in activities associated with or relating to the schools and libraries universal service support mechanism and described the basis for initiating debarment proceedings against you, the applicable debarment procedures, and the effect of debarment.⁴

² Letter from Theresa Z. Cavanaugh, Acting Chief, Investigations and Hearings Division, Enforcement Bureau, Federal Communications Commission to Tyrone D. Pipkin, Notice of Suspension and Initiation of Debarment Proceeding, DA 11-1424, 26 FCC Rcd 11389 (Inv. & Hearings Div., Enf. Bur. 2011).

³ 76 FR 54768 (September 2, 2011).

⁴ Supra note 2.

As discussed in the Notice of Suspension, you and others conspired to control the E-Rate application and implementation process for several schools located in four states.⁵ Specifically, you obstructed the open competitive bidding process by paying school officials $79,382 in bribes and kickbacks to ensure more than $1.4 million in E-Rate contracts would be steered to your company, Global Networking Technologies, Inc.⁶ For your role in the conspiracy, you were sentenced to serve one year and one day in federal prison, followed by two years of supervised release for federal crimes in connection with your participation in a scheme to defraud the E-Rate program.⁷ The court ordered you to pay a $6,000 criminal fine in addition to your sentence.⁸ Pursuant to Section 54.8(c) of the Commission's rules, your conviction of criminal conduct in connection with the E-Rate program serves as a basis for your debarment.⁹

⁵ Notice of Suspension, 26 FCC Rcd at 11390.

⁶ Id.

⁷ See United States v. Tyrone D. Pipkin, Criminal Case Nos. 10-325 and 11-15 “A”, Judgment (E.D. La. filed June 21, 2011).

⁸ Notice of Suspension, 26 FCC Rcd at 11391.

⁹ 47 CFR 54.8(c).

In accordance with the Commission's debarment rules, you were required to file with the Commission any opposition to your suspension or its scope, or to your proposed debarment or its scope, no later than 30 calendar days from either the date of your receipt of the Notice of Suspension or of its publication in the Federal Register, whichever date occurs first.¹⁰ The Commission did not receive any such opposition.

¹⁰ 47 CFR 54.8 (e)(3), (4). Any opposition had to be filed no later than September 16, 2011.

For the foregoing reasons, you are debarred for three years from the Debarment Date.¹¹ During this debarment period, you are excluded from participating in any activities associated with or related to the E-Rate program, including the receipt of funds or discounted services through the schools and libraries support mechanism, or consulting with, assisting, or advising applicants or service providers regarding the schools and libraries support mechanism.¹²

¹¹ 47 CFR 54.8(e)(5), (g).

¹² 47 CFR 54.8(a)(1), (5), (d).

Sincerely,

Theresa Z. Cavanaugh

Acting Chief

Investigations and Hearings Division

Enforcement Bureau

cc: Johnnay Schrieber, Universal Service Administrative Company (via email)

Rashann Duvall, Universal Service Administrative Company (via email)

Juan Rodriguez, Antitrust Division, United States Department of Justice (via email)

Marvin Opotowsky, Antitrust Division, United States Department of Justice (via email)

[FR Doc. 2012-348 Filed 1-10-12; 8:45 am]

BILLING CODE 6712-01-P